DEPARTMENT OF COMMERCE

International Trade Administration

[C-357-813]

Honey from Argentina: Final Results of Countervailing Duty Administrative Review

AGENCY: Import Administration, International Trade Administration, Department of Commerce.

SUMMARY: On December 21, 2004, the Department of Commerce (the Department) published in the Federal Register its preliminary results of administrative review of the countervailing duty order on honey from Argentina for the period January 1, 2003, through December 31, 2003. Honey from Argentina: Preliminary Results of Countervailing Duty Administrative Review, 68 FR 69660 (December 21, 2004) (Preliminary Results). We received no comments from interested parties; therefore, we have made no changes to the net countervailable subsidy rates for the POR. The final net countervailable subsidy rates are listed below in the section entitled “Final Results of Administrative Review.”

EFFECTIVE DATE: June 24, 2005.

FOR FURTHER INFORMATION CONTACT: Dara Iserson and Thomas Gilgunn, AD/CVD Operations, Office 6, Import Administration, U.S. Department of Commerce, Room 7866, 14th Street and Constitution Avenue, NW, Washington, DC 20230; telephone (202) 482-4052 or (202) 482-4236, respectively.

SUPPLEMENTARY INFORMATION:

Background

In response to requests for an administrative review of the countervailing duty (CVD) order on honey from Argentina from the Government of Argentina (GOA) (respondents) and the American Honey Producers Association and Sioux Honey Association (petitioners), the Department initiated an administrative review for the period January 1, 2003, through December 31, 2003. See Initiation of Antidumping and Countervailing Duty Administrative Reviews and Request for Revocation in Part, 69 FR 3117 (January 22, 2004) (Initiation Notice).

On December 21, 2004, the Department published in the Federal Register the preliminary results of the administrative review of the countervailing duty order on honey from Argentina. See Preliminary Results. From April 18 through April 20, 2005, the Department conducted verification of the responses of the GOA. On May 9, 2005, the Department released the verification report to interested parties. See Second Administrative Review of Honey from Argentina: Verification Report for the Government of Argentina (May 9, 2005) (Honey Verification Report). The Department invited comments on the preliminary results and the verification report. Neither the petitioners nor the respondents submitted comments. Therefore, the Department has not made changes to the Preliminary Results.

Scope of the Order

The merchandise covered by this order is artificial honey containing more than 50 percent natural honeys by weight, preparations of natural honey containing more than 50 percent natural honeys by weight, and flavored honey. The subject merchandise includes all grades and colors of honey whether in liquid, creamed, combs, cut comb, or chunk form, and whether packaged for retail or in bulk form.

The merchandise subject to this order is currently classifiable under subheadings 0409.00.00, 1702.90, and 2106.90.99 of the Harmonized Tariff Schedule of the United States (HTSUS). Although the HTSUS subheadings are provided for convenience and U.S. Customs and Border Protection (CBP) purposes, the Department's written description of the merchandise covered by this order is dispositive.

Final Results of Administrative Review

Neither the petitioners nor respondents commented on the preliminary results or on the verification reports and we found that no changes were warranted based on the results of verification. See Honey Verification Report. Therefore, we have made no changes to the net countervailable subsidy rates for the POR.

Listed below are the programs we examined in the review and our findings with respect to each of these programs. For a complete analysis of the programs found to be countervailable, not used, and terminated, see Preliminary Results.

I. Programs Determined to be Countervailable

A. Federal Programs

Programs Determined to be Countervailable | Ad Valorem Rate
Regional Productive Revitalization Program | 0.010 percent
BNA Financing for the Acquisition of Goods of Argentine Origin | 0.005 percent

B. Provincial Programs

Programs Determined to be Countervailable | Ad Valorem Rate
Province of San Luis Honey Development Program | 0.015 percent
Province of Chaco Line of Credit Earmarked for the Honey Sector | 0.015 percent
Buenos Aires Honey Program | 0.038 percent

II. Programs Determined to be Not Used

A. Federal Programs

1. Argentine Internal Tax Reimbursement/Rebate Program (Reintegro)

2. BICE Norm 001: Financing of Production of Goods Destined for Export

3. BICE Norm 007: Line of Credit Offered to Finance Industrial Investment Projects to Restructure and Modernize the Argentine Industry

4. BNA Line of Credit to the Agricultural Producers of the Patagonia

5. BNA Pre-Financing of Exports Regime for the Agricultural Sector

6. Production Pole Program for Honey Producers

7. Enterprise Restructuring Program

8. SGRs - Government Backed Loans Guarantees

9. Fundacion Export AR

10. PROAPI

B. Provincial Programs

1. Buenos Aires Honey Program

a. The Line of Credit for Working Capital

b. Technical Assistance

2. Province of Entre Rios Honey Program

3. Province of Chubut: Province of Chubut Law No. 4430/98

4. Province of Santiago del Estero Creditos de Confinanzas (Trust Credits)

III. Program Determined to be Terminated

Factor de Convergencia (Convergence Factor)

We will disclose our calculations to the interested parties in accordance with section 351.224(b) of the regulations.

Assessment and Cash Deposit Instructions

In accordance with section 777A(e)(2)(B) of the Act, we have calculated the net countervailable subsidy rates on an aggregate or industry-wide basis for exports of subject merchandise in this administrative review. Accordingly, we determine the total net countervailable subsidy rate to be 0.08 percent ad valorem for the POR. This rate is de minimis within the meaning of 19 CFR 351.106(c)(1).

Because the countervailable subsidy rate is de minimis, the Department will instruct CBP to liquidate shipments of honey from Argentina entered, or withdrawn from warehouse, for consumption on or after January 1, 2003, and on or before December 31, 2003 without regard to countervailing duties. The Department will issue appropriate assessment instructions directly to the CBP within 15 days of publication of these final results of review. Further, since the countervailable subsidy rate is de minimis, the Department will instruct CBP to continue to suspend liquidation of entries but to collect no cash deposits of estimated countervailing duties for all shipments of honey from Argentina entered, or withdrawn from warehouse, for consumption on or after the date of publication of these final results of administrative review.

Return or Destruction of Propriety Information

This notice serves as a reminder to parties subject to administrative protective order (APO) of their responsibility concerning the disposition of proprietary information disclosed under APO in accordance with 19 CFR § 351.305. Timely written notification of return/destruction of APO materials or conversion to judicial protective order is hereby requested. Failure to comply with the regulations and the terms of an APO is sanctionable violation.

This administrative review and notice are issued and published in accordance with section 751(a)(1) and 777(i)(1) of the Act.

Dated: June 17, 2005.
Joseph A. Spetrini,
Acting Assistant Secretary for Import Administration.

[FR Doc. E5-3298 Filed 6-23-05; 8:45 am]

BILLING CODE 3510-DS-S